NUCLEAR REGULATORY COMMISSION

[NRC-2013-0219]

Review of Experiments for Research Reactors

AGENCY: Nuclear Regulatory Commission.

ACTION: Regulatory guide; withdrawal.

SUMMARY: The U.S. Nuclear Regulatory Commission (NRC) is withdrawing Regulatory Guide (RG) 2.4, “Review of Experiments for Research Reactors.” The guide is being withdrawn because the industry standard which it referred to has been withdrawn, and corresponding information is available in other NRC guidance. ADDRESSES: Please refer to Docket ID NRC-2013-0219 when contacting the NRC about the availability of information regarding this document. You may access publicly-available information related to this action by the following methods:

• NRC's Agencywide Documents Access and Management System (ADAMS): Publicly available documents created or received at the NRC are available online in the NRC Library at http://www.nrc.gov/reading-rm/adams.html. To begin search, select “ADAMS Public Documents” and then select “Begin Web-based ADAMS Search.” For problems with ADAMS, please contact the NRC's Public Document Room (PDR) reference staff at 1-800-397-4209, or 301-415-4737, or by email at PDR.Resource@nrc.gov. The ADAMS accession number for each document referenced in this notice (if that document is available in ADAMS) is provided the first time that a document is referenced. The review for the withdrawal of RG 2.4 is available in ADAMS under Accession No. ML13143A453.

• NRC's PDR: You may examine and purchase copies of public documents at the NRC's PDR, Room O1-F21, One White Flint North, 11555 Rockville Pike, Rockville, MD 20852.

The documents are not copyrighted and NRC approval is not required to reproduce them. FOR FURTHER INFORMATION CONTACT: Alexander Adams Jr., telephone: 301-415-1127, by email at Alexander.Adams@nrc.gov, Office of Nuclear Reactor Regulation, U.S. Nuclear Regulatory Commission, Washington DC 20555-0001; or Richard Jervey, telephone: 301-251-7404, by email at Richard.Jervey@nrc.gov, Office of Nuclear Regulatory Research, U.S. Nuclear Regulatory Commission, Washington, DC 20555-0001.

SUPPLEMENTARY INFORMATION:

I. Introduction

The NRC is withdrawing RG 2.4, “Review of Experiments for Research Reactors,” (ADAMS Accession No. ML003740131) because its guidance no longer provides useful information. RG 2.4 was published in July 1976 to provide clarification on meeting the requirements in part 50 of Title 10 of the Code of Federal Regulations (10 CFR), “Domestic Licensing of Production and Utilization Facilities,” for procedures acceptable to the NRC staff for a licensee's review and approval of experiments performed at research reactor facilities. The NRC published RG 2.4 to endorse American National Standards Institute (ANSI) N401-1974 (American Nuclear Society (ANS) 15.6), “Review of Experiments for Research Reactors,” with exceptions and additional considerations, concerning performance of experiments which could be undertaken without affecting conditions of the facility license and thus could be performed without prior NRC approval. In 1982, ANS replaced the N401 (ANS 15.6) standard with ANS 15.1, “American National Standard for the Development of Technical Specifications for Research Reactors.”

ANS 15.6 is no longer supported by ANS or available in print. RG 2.4 was written using the text of ANS 15.6 for reference, and because the standard no longer exists, the text within the RG no longer provides useful information.

II. Further Information

The withdrawal of RG 2.4 does not alter any prior or existing licensing commitments based on its use. Regulatory guides may be withdrawn when their guidance no longer provides useful information, or is superseded by technological innovations, congressional actions, or other events. Currently, guidance applicable to experiments at research reactors can be found In RG 2.2, “Development of Technical Specifications for Experiments in Research Reactors” (ADAMS ML003740125) and also in NUREG-1537, “Guidelines for Preparing and Reviewing Applications for the Licensing of Non-Power Reactors” (ADAMS ML12251A353).

Regulatory guides are revised for a variety of reasons and the withdrawal of an RG should be thought of as the final revision of the guide. Although an RG is withdrawn, current licensees may continue to use it, and withdrawal does not affect any existing licenses or agreements. Withdrawal of a guide means that the guide should not be used for future NRC licensing activities. However, although a regulatory guide is withdrawn, changes to existing licenses can be accomplished using other regulatory products.

Dated at Rockville, Maryland, this 11th day of September, 2013.
For the Nuclear Regulatory Commission.
Thomas H. Boyce,
Branch Chief, Regulatory Guide Development Branch, Division of Engineering, Office of Nuclear Regulatory Research.

[FR Doc. 2013-23228 Filed 9-23-13; 8:45 am]

BILLING CODE 7590-01-P